DEPARTMENT OF STATE

[Public Notice 6628]

The Secretary of State's International Council on Women's Business Leadership; Notice of Open Meeting

The Secretary of State's International Council on Women's Business Leadership (ICWBL) will meet from 9:15 a.m. to 10:15 a.m. on Tuesday, January 24, 2012, in the Harry S. Truman Building at the U.S. Department of State, 2201 C Street NW., Washington, DC. The meeting will be hosted by U.S. Secretary of State Hillary Rodham Clinton. The ICWBL serves the U.S. Government in a solely advisory capacity, and provides advice and assistance in the formulation of U.S. policy, positions, proposals and strategies for multilateral and bilateral negotiations, business outreach, and commercial diplomacy, particularly pertaining to the economic empowerment of women for global economic prosperity, where the State Department has the lead negotiating authority. The meeting will focus on Women and the Economy. Subcommittee discussions will be led by the Access to Markets Subcommittee, the Access to Finance Subcommittee, the Training and Capacity Building Subcommittee, and the Leadership Subcommittee.

This meeting is open to public participation, via live webcast on the Internet at http://www.state.gov/e/eb/adcom/icwbl/. The public is invited to submit written statements to the Secretary of State's International Council on Women's Business Leadership by C.O.B. January 17, 2012, by either of the following methods:

Send electronic statements to the Secretary of State's International Council on Women's Business Leadership at SGWI_ICWBL@state.gov; send paper statements via facsimile to (202) 632-9232, attention: Secretary of State's International Council on Women's Business Leadership (ICWBL).

All statements will be posted on the Secretary of State's ICWBL Web site without change, including any business or personal information provided such as names, addresses, email addresses, or telephone numbers. All statements received, including attachments and other supporting materials, are part of the public record and subject to public disclosure. You should submit only information that you wish to make available publicly.

Meeting summaries of the Council's discussion will be available within 90 days on the ICWBL Web site http://www.state.gov/e/eb/adcom/icwbl/.

For additional information, contact Senior Coordinator Nancy Smith-Nissley, Office of Economic Policy Analysis and Public Diplomacy, Bureau of Economic and Business Affairs, at (202) 647-1682 or Smith-NissleyN@state.gov.

Dated: December 20, 2011.
Lorraine Hariton,
Special Representative, Office of Commercial and Business Affairs, U.S. Department of State.

[FR Doc. 2011-33176 Filed 12-23-11; 8:45 am]

BILLING CODE 4710-07-P